DEPARTMENT OF THE INTERIOR

Bureau of Land Management

[ID-070-01-1610-DO-050D]

Notice of Intent To Prepare a Resource Management Plan (RMP) and Environmental Impact Statement (EIS) for the Pocatello/Malad Planning Area of the Upper Snake River District in Southeastern Idaho

AGENCY: Pocatello Field Office, Bureau of Land Management (BLM), Interior.

SUMMARY: This document provides notice that the BLM intends to prepare an RMP with an associated EIS for the Pocatello Field Office. The new RMP will replace the Malad Management Framework Plan (MFP), approved in 1981, and will revise the Pocatello RMP, approved in 1988. This planning activity encompasses approximately 621,500 acres of public land. The planning process will comply with the Federal Land Policy and Management Act of 1976 (FLPMA) the National Environmental Policy Act of 1969 (NEPA) and BLM policies. The BLM will work closely with interested parties to identify the management decisions that are best suited to the needs of the public. This collaborative process will take into account local, regional, and national needs and concerns. This notice initiates the public scoping process to identify planning issues and to develop planning criteria. The scoping process will include an evaluation of the existing RMP and MFP in the context of the needs and interests of the public.

DATES: The scoping comment period will commence with the publication of this notice. Formal scoping will end 60 days after publication of this notice. Comments on issues and planning criteria should be received on or before the end of the scoping period at the address listed below.

Public meetings will be held throughout the plan scoping and preparation period. In order to ensure local community participation and input, public meetings will be held in Fort Hall, Pocatello, Soda Springs, Montpelier and Malad, Idaho. Specific meeting dates and locations for public participation will be published in the Sho-Ban News, Caribou County Sun, Idaho State Journal, News Examiner, and Idaho Enterprise newspapers at a later date. The public will be given opportunities to participate through workshops and open house meetings throughout the planning process to work collaboratively with BLM in identifying the full range of issues to be addressed in the RMP/EIS and developing alternatives to be analyzed in the EIS.

ADDRESSES: Comments should be sent to: Bureau of Land Management, Pocatello Field Office, 1111 N. 8th Avenue, Pocatello Idaho 83201 for the Pocatello RMP. Comments, including names and street addresses of respondents, will be available for public review at the above address during regular business hours 7:45 a.m. to 4:30 p.m., Monday through Friday, except holidays, and may be published as part of the EIS. Individual respondents may request confidentiality. If you wish to withhold your name or street address from public review or from disclosure under the Freedom of Information Act, you must state this prominently at the beginning of your written comment. Such requests will be honored to the extent allowed by law. All submissions from organizations or businesses, and from individuals identifying themselves as representatives or officials of organizations or businesses, will be made available for public inspection in their entirety.

FOR FURTHER INFORMATION CONTACT: Jeff S. Steele, Field Manager, Pocatello Field Office, 1111 N. 8th Avenue, Pocatello Idaho 83201, (208) 478-6340. Existing documents concerning the Pocatello/Malad planning area can be seen at the above addresses.

SUPPLEMENTARY INFORMATION: The planning process for this RMP/EIS will utilize an open collaborative approach allowing the public, Tribes, State and Federal agencies, local elected officials, and BLM subject matter specialists to fully develop, and analyze alternatives for management of the public lands. Public scoping to identify specific issues to be addressed in the plan will be an early opportunity for the public to provide input. Subsequent opportunities for public involvement will occur at specific stages in the planning process.

Preliminary issues that have been identified and that may be addressed in the plan are air, soil, and water resources; vegetation (including noxious weeds); riparian areas; forestry management (including juniper woodlands); wildlife and fishery habitat; special status species (including threatened, endangered, candidate, and BLM sensitive species); livestock grazing; fire management; lands (including tenure adjustments and rights-of-way); locatable, leasable, and salable minerals; recreation (including wild and scenic rivers); wilderness; visual resources; cultural resources; hazardous materials; and areas of critical environmental concern.

After gathering public comments on what issues the plan should address, the suggested issues will be placed in one of three categories:

1. Issues to be resolved in the plan;

2. Issues resolved through policy or administrative action; or

3. Issues beyond the scope of this plan.

Rationale will be provided in the plan for each issue placed in category two or three. In addition to these major issues, a number of management questions and concerns will be addressed in the plan. The public is encouraged to help identify these questions and concerns during the scoping phase.

An interdisciplinary approach will be used to develop the plan in order to consider the variety of resource issues and concerns identified. Disciplines corresponding to these issue areas will be represented and used during the planning process.

Agency representatives and interested persons are invited to visit with Pocatello Field Office officials at any time during the EIS process. In addition, two specific time periods are identified for the receipt of formal comments. The two comment periods are, (1) during the scoping process December 14, 2001 and, (2) during the formal review period of the Draft EIS.

Dated: August 20, 2001.
James E. May,
Upper Snake River District Manager.

[FR Doc. 01-28449 Filed 11-13-01; 8:45 am]

BILLING CODE 4310-GG-P